DEPARTMENT OF COMMERCE

National Oceanic and Atomospheric Administration

50 CFR Part 660

[Docket No. 011231309-2090-03; I.D. 072902E]

Fisheries Off West Coast States and in the Western Pacific; Pacific Coast Groundfish Fishery; Removal of the Sablefish Size Limit South of 36° N. Latitude for Limited Entry Fixed Gear and Open Access Fisheries

AGENCY: National Marine Fisheries Service (NMFS), National Oceanic and Atmospheric Administration (NOAA), Commerce.

ACTION: Inseason sablefish size limit adjustment; request for comments.

SUMMARY: NMFS announces removal of the sablefish size limit south of 36° N. latitude (lat.) for limited entry fixed gear and open access Pacific Coast groundfish fisheries. This action, which is authorized by the Pacific Coast Groundfish Fishery Management Plan (FMP), is intended to help the fisheries achieve optimum yield (OY) while protecting overfished and depleted stocks.

DATES: Changes to management measures are effective 0001 hours (local time) August 1, 2002, through the effective dates of the 2003 specifications and management measures for the Pacific Coast groundfish fishery, unless modified, superseded, or rescinded, which will be published in the Federal Register. Comments on this action will be accepted through August 21, 2002.

FOR FURTHER INFORMATION CONTACT: Jamie Goen or Carrie Nordeen (Northwest Region, NMFS) 206-526-6140.

SUPPLEMENTARY INFORMATION: The Pacific Coast Groundfish FMP and its implementing regulations at 50 CFR part 660, subpart G, regulate fishing for over 80 species of groundfish off the coasts of Washington, Oregon, and California. Annual groundfish specifications and management measures are initially developed by the Pacific Fishery Management Council (Council), and are implemented by NMFS. The specifications and management measures for the current fishing year (January 1 - December 31, 2002) were initially published in the Federal Register as an emergency rule for January 1 - February 28, 2002 (67 FR 1540, January 11, 2002), and as a proposed rule for all of 2002 (67 FR 1555, January 11, 2002), then finalized effective March 1, 2002 (67 FR 10490, March 7, 2002). The final rule was subsequently amended at 67 FR 15338, April 1, 2002; 67 FR 18117, April 15, 2002; 67 FR 30604, May 7, 2002; 67 FR 40870, June 14, 2002; 67 FR 44778, July 5, 2002; and 67 FR 48571, July 25, 2002.

The July inseason trip limit adjustments (67 FR 44778, July 5, 2002) to the groundfish management measures were recommended by the Council in consultation with Pacific Coast Treaty Tribes and the States of Washington, Oregon, and California at its June 18-21, 2002, meeting in Foster City, CA and subsequently corrected by 67 FR 48571, July 25, 2002. The July trip limit adjustments were made to slow the catch of overfished species, particularly darkblotched and bocaccio rockfish. By the end of June the projected bocaccio rockfish catch in the commercial and recreational fisheries combined may have exceeded the rebuilding OY of 100 mt and could approach or exceed the acceptable biological catch of 122 mt. In order to reduce fishing effort on the continental shelf where bocaccio are found and move vessels into deeper waters off the slope, the Council recommended reinstating the minimum 22-inch (56-cm) size requirement for sablefish taken with non-trawl (fixed) gear and a reduced trip limit for sablefish under the 22-inch (56-cm)requirement taken with trawl gear. Adult sablefish tend to be found at greater depths (109 to 547 fathoms), while bocaccio tend to be found at shallower depths (27 to 137 fathoms). Prohibiting retention of small sablefish in the non-trawl fisheries and reducing the trip limit for small sablefish in the limited entry trawl fishery is expected to force vessels into deeper water when targeting sablefish, thereby reducing opportunities for fishermen targeting sablefish to intercept bocaccio. Therefore, in the trawl fishery south of 40° 10' N. lat., the July trip limit changes kept the currently scheduled cumulative sablefish limit of 4,500 lb (2,041 kg) per 2 months, but added a per trip restriction of no more than 500 lb (227 kg) of sablefish smaller than 22 inches (56 cm). To encourage the non-trawl (fixed gear) fisheries to also operate in deeper waters, the July trip limit changes kept the currently scheduled limits, but reinstated the size restriction prohibiting retention of sablefish smaller than 22 inches (56 cm) south of 40°10' N. lat. This restriction was put in place south of the 40°10' N. lat. management line to protect bocaccio, which are most abundant along the California coast. In addition, bocaccio tend to be at the deeper end of their depth range (i.e., closer to 137 fathoms) along California, making it necessary to push the sablefish fishery into even deeper waters south of 40°10' N. lat.

After receiving inquiries from the fixed gear industry regarding the sablefish size restriction south of 36° N. lat., the Council staff, Groundfish Management Team (GMT), and NMFS decided to re-evaluate the basis of the Council's June decision. The Council decision to reinstate the 22-inch (56-cm) minimum size restriction for sablefish landed by the limited entry fixed gear and open access fleets south of 40°10' N. lat. was intended to protect bocaccio rockfish, a continental shelf overfished species, as small sablefish and bocaccio may co-occur in some areas. Public comment received in July, however, indicated that not only are sablefish smaller at all depths south of 36° N. lat., but that sablefish may not co-occur with bocaccio south of 36° N. lat.

Trawl surveys and stock assessments conducted by NMFS do not extend south of Pt. Conception (34°27' N. lat.) and cannot provide data on whether sablefish are smaller in that area. However, data from two Alaska Fisheries Science Center resource assessment and conservation engineering (RACE) surveys summarizing sablefish average weight by depth and latitude, show a noticeably smaller average weight at all depths south of 36° N. lat. The average weight of sablefish north of 40°10' N. lat. is 0.88 kg at depths less than 150 fathoms, 1.52 kg at depths between 150 to 250 fathoms, and 1.84 kg for depths greater than 250 fathoms. The average weight of sablefish between 40°10' N. lat. and 36° N. lat. is 0.68 kg at depths less than 150 fathoms, 1.19 kg at depths between 150 to 250 fathoms, and 1.95 kg for depths greater than 250 fathoms. The average weight of sablefish south of 36° N. lat. is 0.51 kg at depths less than 150 fathoms, 0.97 kg at depths between 150 to 250 fathoms, and 1.63 kg for depths greater than 250 fathoms. In addition to the RACE surveys, data from pot surveys conducted between 1979 and 1991 also reported smaller sablefish south of Monterey Bay. Because the sablefish south of 36° N. lat. are smaller at all depths, the minimum size restriction south of 36° N. lat. does not necessarily move effort into deeper waters away from bocaccio but does increase discards of sablefish under 22 inches.

Regarding whether bocaccio and sablefish co-occur south of 36° N. lat., according to NMFS' triennial survey data in an area between roughly 37° N. lat. and 34°27' N. lat. (Pt. Conception), 14 percent of the sablefish distribution within the survey area overlaps with the distribution of bocaccio. However, the majority of sablefish in the survey area, 86 percent, tend to be at depths greater than 150 fathoms (i.e., generally beyond bocaccio's depth range). In addition to the triennial survey data, NMFS reviewed landings data supplied by the California Department of Fish and Game (CDFG) for the years 2000 and 2001 from trips targeting sablefish in the Conception Area (south of 36° N. lat.). The highest rate at which bocaccio was reported landed with sablefish over these 2 years was 0.0227 mt of bocaccio with 42 mt of sablefish, or 0.05 percent. The expected catch of bocaccio under the remaining commercial sablefish OY south of 36° N. lat. (142 mt), is between 0.02 mt and 0.08 mt.

Based on the evidence from the RACE surveys, pot surveys, triennial survey, and CDFG landings data, NMFS has determined, in consultation with the GMT, that removing the minimum size restriction of 22 inches for the sablefish fishery south of 36° N. lat. is warranted and will only have a negligible impact on bocaccio rockfish. Because sablefish are larger in deeper waters between 40°10' N. lat. and 36° N. lat., the 22-inch (56-cm) minimum size restriction on sablefish in that area will remain as previously announced for the limited entry fixed gear and open access fleets at 67 FR 44778, July 5, 2002, and subsequently corrected at 67 FR 48571, July 25, 2002. For the limited entry trawl fleet, the minimum size restriction will also remain as previously announced (67 FR 44778, July 5, 2002, as corrected at 67 FR 48571, July 25, 2002).

NMFS Actions

For the reasons stated here, NMFS rescinds the requirement for a 22-inch (56-cm) minimum size restriction for the limited entry fixed gear and open access fleets south of 36° N. lat. as implemented in 67 FR 44778, July 5, 2002, and subsequently corrected at 67 FR 48571, July 25, 2002. NMFS hereby announces the following changes to the 2002 specifications and management measures (67 FR 10490, March 7, 2002, as amended at 67 FR 15338, April 1, 2002; 67 FR 18117, April 15, 2002; 67 FR 30604, May 7, 2002; 67 FR 40870, June 14, 2002; 67 FR 44778, July 5, 2002; and 67 FR 48571, July 25, 2002, to read as follows:

1. In Federal Register Document 02-5302 of March 7, 2002, on page 10518, in section IV, under B. Limited Entry Fishery, at the end of paragraph (1), Table 4 is revised to read as follows:

IV. NMFS Actions

B. Limited Entry Fishery

(1) * * *

BILLING CODE 3510-22-S

* * * * *

2. In Federal Register Document 02-5302 of March 7, 2002, on page 10520, under C. Trip Limits in the Open Access Fishery, after paragraph (1), Table 5 is revised to read as follows:

C. Trip Limits in the Open Access Fishery

(1) * * *

BILLING CODE 3510-22-C

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries, NMFS, finds good cause to waive the requirement to provide prior notice and opportunity for public comment on this action pursuant to 5 U.S.C. 553(b)(B), because providing prior notice and opportunity for comment would be impracticable and contrary to the public interest. It would be impracticable and contrary to the public interest because affording prior notice and opportunity for public comment would impede the agency's function of managing fisheries to achieve OY. By removing the size restriction on sablefish south of 36° N. lat., this inseason action allows fishers to access sablefish allocations without exceeding the OY for that species. Delaying removal of the size restriction in this area could prevent the industry from obtaining the intended benefit and unnecessarily increase discards of adult sablefish under 22 inches. The changes implemented in this action are based in part on comment received on the July 5, 2002 (67 FR 44778) Federal Register document implementing the Council's decision. For these reasons, good cause also exists to waive the 30-day delay in effectiveness requirement of 5 U.S.C. 553(d)(3).

Authority: 16 U.S.C. 1801 et seq.

Dated: July 31, 2002.
John H. Dunnigan
Director, Office of Sustainable Fisheries, National Marine Fisheries Service.

[FR Doc. 02-19809 Filed 8-1-02; 2:44 pm]

BILLING CODE 3510-22-S